DEPARTMENT OF TRANSPORTATION

Pipeline and Hazardous Materials Safety Administration

49 CFR Part 190

[Docket No. PHMSA-2025-0106; Amdt. No. 190-23]

RIN 2137-AF76

Pipeline Safety: Rationalize Calculation of Regulatory Filing and Compliance Deadlines

AGENCY: Pipeline and Hazardous Materials Safety Administration (PHMSA), Department of Transportation (DOT).

ACTION: Direct final rule (DFR); request for comments.

SUMMARY: This DFR amends PHMSA's procedural regulations to establish a rule of construction clarifying the operation of procedural filing deadlines scheduled to fall on weekends and Federal holidays.

DATES: The DFR is effective October 9, 2025, unless adverse comments are received by September 2, 2025. If adverse comments are received, notification will be published in the Federal Register before the effective date either withdrawing the rule (in its entirety or portions thereof) or issuing a new final rule which responds to those comments.

ADDRESSES: You may submit comments identified by the Docket Number PHMSA-2025-0106 using any of the following methods:

E-Gov Web: https://www.regulations.gov. This site allows the public to enter comments on any Federal Register notice issued by any agency. Follow the online instructions for submitting comments.

Mail: Docket Management System: U.S. Department of Transportation, 1200 New Jersey Avenue SE, West Building Ground Floor, Room W12-140, Washington, DC 20590-0001.

Hand Delivery: U.S. DOT Docket Management System: West Building Ground Floor, Room W12-140, 1200 New Jersey Avenue SE, between 9 a.m. and 5 p.m., Monday through Friday, except Federal holidays.

Fax: 1-202-493-2251.

For commenting instructions and additional information about commenting, see SUPPLEMENTARY INFORMATION.

FOR FURTHER INFORMATION CONTACT: Brianna Wilson, Transportation Specialist, by phone at 771-215-0969 or email at brianna.wilson@dot.gov.

SUPPLEMENTARY INFORMATION:

I. General Discussion

PHMSA's administrative procedures for enforcement and regulation are codified at 49 CFR part 190. Part 190 contains numerous filing and compliance deadlines but says nothing about what happens when those deadlines fall on a weekend or a Federal holiday. That omission has real-world financial consequences for operators and other interested persons; they may incur additional costs by accelerating workstreams or incurring overtime personnel costs to satisfy a deadline early that would otherwise fall on a weekend or Federal holiday.

To avoid that result, PHMSA is amending the definition of “day” at § 190.3 to specify that a filing deadline scheduled to fall on a weekend or Federal holiday will be deferred until the following business day. PHMSA notes that this rule of regulatory construction will only apply to part 190 filing requirements and not to other filing or regulatory compliance deadlines elsewhere in the pipeline safety regulations (PSRs, 49 CFR parts 190-199).

PHMSA finds that adjusting the part 190 filing deadlines is unlikely to have any meaningful impact on the public safety but will provide operators and other interested parties with additional certainty and generate cost savings.

Commenting

Instructions: Please include the docket number PHMSA-2025-0106 at the beginning of your comments. If you submit your comments by mail, submit two copies. If you wish to receive confirmation that PHMSA received your comments, include a self-addressed stamped postcard. Internet users may submit comments at https://www.regulations.gov.

Note: Comments are posted without changes or edits to https://www.regulations.gov, including any personal information provided. There is a privacy statement published on https://www.regulations.gov.

Privacy Act: In accordance with 5 U.S.C. 553(c), DOT solicits comments from the public to inform its rulemaking process. DOT posts these comments, without edit, including any personal information the commenter provides, to https://www.regulations.gov, as described in the system of records notice (DOT/ALL-14 FDMS), which can be reviewed at https://www.dot.gov/privacy.

Confidential Business Information: Confidential Business Information (CBI) is commercial or financial information that is both customarily and actually treated as private by its owner. Under the Freedom of Information Act (FOIA, 5 U.S.C. 552), CBI is exempt from public disclosure. It is important that you clearly designate the comments submitted as CBI if: your comments responsive to this document contain commercial or financial information that is customarily treated as private; you actually treat such information as private; and your comment is relevant or responsive to this notice. Pursuant to 49 Code of Federal Regulations (CFR) 190.343, you may ask PHMSA to provide confidential treatment to information you give to the agency by taking the following steps: (1) mark each page of the original document submission containing CBI as “Confidential”; (2) send PHMSA, along with the original document, a second copy of the original document with the CBI deleted; and (3) explain why the information that you are submitting is CBI. Submissions containing CBI should be sent to Brianna Wilson, Standards and Rulemaking Division, Pipeline and Hazardous Materials Safety Administration (PHMSA), 2nd Floor, 1200 New Jersey Avenue SE, Washington, DC 20590-0001, or by email at brianna.wilson@dot.gov. Any materials PHMSA receives that is not specifically designated as CBI will be placed in the public docket.

Docket: For access to the docket to read background documents or comments received, go to http://www.regulations.gov. Follow the online instructions for accessing the docket. Alternatively, you may review the documents in person at the street address listed above.

II. Regulatory Analysis and Notices

A. Legal Authority

This direct final rule is published under the authority of the Secretary of Transportation set forth in the Federal Pipeline Safety Laws (49 U.S.C. 60101 et seq.) and delegated to the PHMSA Administrator pursuant to 49 CFR 1.97. PHMSA has determined that this direct final rule is unlikely to elicit significant adverse comment because it is a rule of agency procedure that provides interested parties with additional flexibility and certainty in meeting their part 190 filing requirements. See 49 U.S.C. 60102(b)(6)(A); 49 CFR 190.339.

B. Executive Order 12866; Regulatory Planning and Review

Executive Order (E.O.) 12866 (“Regulatory Planning and Review”; 58 FR 51735 (Oct. 4, 1993)), as implemented by DOT Order 2100.6B (“Policies and Procedures for Rulemaking”), requires agencies to regulate in the “most cost-effective manner,” to make a “reasoned determination that the benefits of the intended regulation justify its costs,” and to develop regulations that “impose the least burden on society.” DOT Order 2100.6B specifies that regulations should generally “not be issued unless their benefits are expected to exceed their costs.” In arriving at those conclusions, E.O. 12866 requires that agencies should consider “both quantifiable measures . . . and qualitative measures of costs and benefits that are difficult to quantify” and “maximize net benefits . . . unless a statute requires another regulatory approach.” E.O. 12866 also requires that “agencies should assess all costs and benefits of available regulatory alternatives, including the alternative of not regulating.” DOT Order 2100.6B directs that PHMSA and other Operating Administrations must generally choose the “least costly regulatory alternative that achieves the relevant objectives” unless required by law or compelling safety need.

E.O. 12866 and DOT Order 2100.6B also require that PHMSA submit “significant regulatory actions” to the Office of Information and Regulatory Affairs (OIRA) within the Executive Office of the President's Office of Management and Budget (OMB) for review. This direct final rule is a not significant regulatory action pursuant to E.O. 12866; it also has not been designated as a “major rule” as defined by the Congressional Review Act (5 U.S.C. 801 et seq.).

PHMSA has complied with the requirements in E.O. 12866 as implemented by DOT Order 2100.6B and determined that this direct final rule may result in cost savings by reducing regulatory burdens for pipeline facility operators and other external stakeholders with no adverse impact on safety. The cost savings of this rulemaking could not be quantified.

C. Executive Orders 14192 and 14219

This direct final rule will be a deregulatory action pursuant to E.O. 14192 (“Unleashing Prosperity Through Deregulation”; (90 FR 9065 (Feb. 6, 2025)). PHMSA estimates that the total costs of the rule on the regulated community will be less than zero. Nor does this rulemaking implicate any of the factors identified in section 2(a) of E.O. 14219 (“Ensuring Lawful Governance and Implementing the President's `Department of Government Efficiency' Deregulatory Initiative”) indicative that a regulation is “unlawful . . . [or] that undermine[s] the national interest.” (90 FR 10583 (Feb. 25, 2025).

D. Energy-Related Executive Orders 13211, 14154, and 14156

The President has declared in E.O. 14156 (“Declaring a National Energy Emergency”; (90 FR 8353 (Jan. 29, 2025)) a national emergency to address America's inadequate energy development production, transportation, refining, and generation capacity. Similarly, E.O. 14154 (“Unleashing American Energy,” (90 FR 8353 (Jan. 29, 2025)) asserts a Federal policy to unleash American energy by ensuing access to abundant supplies of reliable, affordable energy from (inter alia) the removal of “undue burden[s]” on the identification, development, or use of domestic energy resources such as PHMSA-jurisdictional gasses and hazardous liquids. PHMSA finds this direct final rule is consistent with each of E.O. 14156 and E.O. 14154. The direct final rule will give affected pipeline operators the benefit of greater flexibility in responding to filing deadlines set forth in part 190. PHMSA therefore expects the regulatory amendments in this direct final rule will not adversely affect national pipeline transportation capacity or pipeline operators' ability to provide abundant, reliable, affordable natural gas and in response to residential, commercial, and industrial demand.

However, this direct final rule is not a “significant energy action” under E.O. 13211 (“Actions Concerning Regulations That Significantly Affect Energy Supply, Distribution, or Use”; (66 FR 28355 (May 22, 2001)), which requires Federal agencies to prepare a Statement of Energy Effects for any “significant energy action.” Because this direct final rule is not a significant action under E.O. 12866, it will not have a significant adverse effect on supply, distribution, or energy use; OIRA has therefore not designated this direct final rule as a significant energy action.

E. Executive Order 13132: Federalism

PHMSA analyzed this direct final rule in accordance with the principles and criteria contained in E.O. 13132 (“Federalism”; 64 FR 43255 (Aug. 10, 1999)) and the Presidential Memorandum (“Preemption”) published in the Federal Register on May 22, 2009 (74 FR 24693). E.O. 13132 requires agencies to assure meaningful and timely input by State and local officials in the development of regulatory policies that may have “substantial direct effects on the States, on the relationship between the National Government and the States, or on the distribution of power and responsibilities among the various levels of government.”

PHMSA finds that this direct final rule is a rule of agency procedure that will not impose a substantial direct effects on the States, the relationship between the National Government and the States, or the distribution of power and responsibilities among the various levels of government. Therefore, the consultation and funding requirements of E.O. 13132 do not apply.

F. Regulatory Flexibility Act

The Regulatory Flexibility Act (5 U.S.C. 601 et seq.) requires Federal agencies to conduct a Final Regulatory Flexibility Analysis (FRFA) for a direct final rule subject to notice-and-comment rulemaking under the APA unless the agency head certifies that the rulemaking will not have a significant economic impact on a substantial number of small entities. E.O. 13272 (“Proper Consideration of Small Entities in Agency Rulemaking”; 67 FR 53461 (Aug. 16, 2002)). E.O. 13272 (“Proper Consideration of Small Entities in Agency Rulemaking”) ⁹ obliges agencies to establish procedures promoting compliance with the Regulatory Flexibility Act. DOT posts its implementing guidance on a dedicated web page. This direct final rule was developed in accordance with E.O. 13272 and DOT implementing guidance to ensure compliance with the Regulatory Flexibility Act. PHMSA expects that this direct final rule will relieve a regulatory burden and therefore certifies the direct final rule will not have a significant impact on a substantial number of small entities.

G. Unfunded Mandates Reform Act of 1995

The Unfunded Mandates Reform Act (UMRA, 2 U.S.C. 1501 et seq.) requires agencies to assess the effects of Federal regulatory actions on State, local, and Tribal governments, and the private sector. For any proposed or direct final rule that includes a Federal mandate that may result in the expenditure by state, local, and Tribal governments, in the aggregate of $100 million or more (in 1996 dollars) in any given year, the agency must prepare, amongst other things, a written statement that qualitatively and quantitatively assesses the costs and benefits of the Federal mandate.

This direct final rule does not impose unfunded mandates under UMRA because it does not result in costs of $100 million or more (in 1996 dollars) per year for either State, local, or Tribal governments, or to the private sector.

H. National Environmental Policy Act

The National Environmental Policy Act (NEPA, 42 U.S.C. 4321 et seq.) requires that Federal agencies assess and consider the impact of major Federal actions on the human and natural environment.

PHMSA analyzed this direct final rule in accordance with NEPA and issues this Finding of No Significant Impact (FONSI), as it has determined that the rulemaking will not adversely affect safety and therefore will not significantly affect the quality of the human and natural environment.

I. Executive Order 13175

PHMSA analyzed this direct final rule according to the principles and criteria in E.O. 13175 (“Consultation and Coordination with Indian Tribal Governments”; 65 FR 67249 (Nov. 9, 2000)) and DOT Order 5301.1A (“Department of Transportation Tribal Consultation Polices and Procedures”). E.O. 13175 requires agencies to assure meaningful and timely input from Tribal government representatives in the development of rules that significantly or uniquely affect Tribal communities by imposing “substantial direct compliance costs” or “substantial direct effects” on such communities or the relationship or distribution of power between the Federal government and Tribes.

PHMSA assessed the impact of the direct final rule and determined that it will not significantly or uniquely affect Tribal communities or Indian Tribal governments. The rulemaking's regulatory amendment merely adopts a rule of agency procedure providing pipeline operators and other interested persons (including Tribal communities and Indian Tribal governments) greater flexibility in satisfying PSR filing and regulatory deadlines; therefore, this direct final rule will not significantly or uniquely affect Tribal communities, much less impose substantial compliance costs on Native American Tribal governments or mandate Tribal action. For these reasons, PHMSA has concluded that the funding and consultation requirements of E.O. 13175 and DOT Order 5301.1A do not apply.

J. Paperwork Reduction Act

The Paperwork Reduction Act (44 U.S.C. 3501 et seq.) and its implementing regulations at 5 CFR 1320.8(d) requires that PHMSA provide interested members of the public and affected agencies with an opportunity to comment on information collection and recordkeeping requests. This rulemaking will not create, amend, or rescind any existing information collections.

K. Executive Order 13609 and International Trade Analysis

E.O. 13609 (“Promoting International Regulatory Cooperation”; 77 FR 26413 (May 4, 2012)) requires agencies consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

Similarly, the Trade Agreements Act of 1979 (Pub. L. 96-39), as amended by the Uruguay Round Agreements Act (Pub. L. 103-465), prohibits Federal agencies from establishing any standards or engaging in related activities that create unnecessary obstacles to the foreign commerce of the United States. For purposes of these requirements, Federal agencies may participate in the establishment of international standards, so long as the standards have a legitimate domestic objective, such as providing for safety, and do not operate to exclude imports that meet this objective. The statute also requires consideration of international standards and, where appropriate, that they be the basis for U.S. standards.

PHMSA has assessed the effects of the direct final rule and has determined that its regulatory amendments will not cause unnecessary obstacles to foreign trade.

L. Cybersecurity and Executive Order 14028

E.O. 14028 (“Improving the Nation's Cybersecurity”; 86 FR 26633 (May 17, 2021)) directed the Federal government to improve its efforts to identify, deter, and respond to “persistent and increasingly sophisticated malicious cyber campaigns.” PHMSA has considered the effects of the direct final rule and has determined that its regulatory amendments will not materially affect the cybersecurity risk profile for pipeline facilities.

List of Subjects in 49 CFR Part 190

Administrative procedure.

For the reasons set forth above, PHMSA amends 49 CFR part 190 as follows:

PART 190—PIPELINE SAFETY ENFORCEMENT AND REGULATORY PROCEDURES

1. The authority citation for part 190 continues to read as follows:

Authority: 33 U.S.C. 1321(b) and 49 U.S.C. 60101 et seq.

2. In § 190.3, revise the definition of “Day” to read as follows:

§ 190.3 Definitions.

* * * * *

Day means a 24-hour period ending at 11:59 p.m. Unless otherwise specified, a day refers to a calendar day. When a deadline mandated by this part is scheduled to fall on a day that is a Saturday, Sunday, or Federal holiday, the deadline will be adjusted to the next business day.

* * * * *

Issued in Washington, DC, on June 26, 2025, under the authority delegated in 49 CFR 1.97.
Benjamin D. Kochman,
Acting Administrator.

[FR Doc. 2025-12076 Filed 6-27-25; 4:15 pm]

BILLING CODE 4910-60-P